DEPARTMENT OF COMMERCE

National Oceanic and Atmospheric Administration

[I.D. 100802D]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Research Steering Committee, Habitat Oversight Committee and Groundfish Oversight Committee in October, 2002 to consider actions affecting New England fisheries in the exclusive economic zone (EEZ). Recommendations from these groups will be brought to the full Council for formal consideration and action, if appropriate.

DATES: The meetings will be between October 28 - 30, 2002. See SUPPLEMENTARY INFORMATION for specific dates and times.

ADDRESSES: The meetings will be held in Wakefield, MA, Plymouth, MA and Portsmouth, NH. See SUPPLEMENTARY INFORMATION for specific locations.

Council address: New England Fishery Management Council, 50 Water Street, Mill 2, Newburyport, MA 01950.

FOR FURTHER INFORMATION CONTACT: Paul J. Howard, Executive Director, New England Fishery Management Council; (978) 465-0492.

SUPPLEMENTARY INFORMATION:

Meeting Dates and Agendas

Monday, October 28, 2002, 9:30 a.m.--Research Steering Committee Meeting.

Location: Sheraton Colonial, One Audubon Road, Wakefield, MA 01880; telephone: (781) 245-9300.

The committee will hear an update on the status of current projects, recent contract awards and funding for the NOAA Fisheries Cooperative Research Partners Initiative. They will also discuss development of procedures for tracking cooperative research projects, project evaluation, and the integration of results into the management process. Also on the agenda will be discussion and planning for a public process to identify habitat research priorities that could be addressed through collaborative research.

Tuesday, October 29, 2002, 9:30--Habitat Oversight Committee Meeting.

Location: Sheraton Inn, 180 Water Street, Plymouth, MA 02360; telephone: (508) 747-4900.

The Committee will review the analysis for the Essential Fish Habitat Sections of the Draft Supplementary Environmental Impact Statement (DSEIS) for Amendment 13. They may select preferred alternatives for Amendment 13 to be recommended to the full Council.

Wednesday, October 30, 2002, 9:30 a.m.--Groundfish Oversight Committee Meeting.

Location: Holiday Inn, 300 Woodbury Ave., Portsmouth, NH 03801; telephone: (603) 431-8000.

The committee will meet to review the Draft Environmental Impact Statement (DEIS) for Amendment 13 to the Northeast Multispecies Fishery Management Plan. The Committee will review alternatives and analyses, provide advice on improving the DEIS, and will consider recommending a preferred alternative for Council consideration. In addition, the Committee will meet in a closed session to review applications to fill several vacant advisory panel positions.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: October 9, 2002.
Matteo J. Milazzo,
Acting Director, Office of Sustainable Fisheries, National Marine Fisheries Service.

[FR Doc. 02-26139 Filed 10-11-02; 8:45 am]

BILLING CODE 3510-22-S